DEPARTMENT OF ENERGY

Federal Energy Regulatory Commission

Combined Notice of Filings No. 2

October 19, 2010.

Take notice that the Commission has received the following Natural Gas Pipeline Rate and Refund Report filings:

Docket Numbers: RP10-1220-001.

Applicants: Texas Gas Transmission, LLC.

Description: Texas Gas Transmission, LLC submits its cross-reference table to comply with Order No. 587-U.

Filed Date: 10/15/2010.

Accession Number: 20101015-5089.

Comment Date: 5 p.m. Eastern Time on Wednesday, October 27, 2010.

Docket Numbers: RP10-1250-003.

Applicants: CenterPoint Energy—Mississippi River Transmission Corporation.

Description: CenterPoint Energy—Mississippi River Transmission Corporation submits tariff filing per 154.203: NAESB 1.9 Sheet 105 to be effective 11/1/2010.

Filed Date: 10/18/2010.

Accession Number: 20101018-5086.

Comment Date: 5 p.m. Eastern Time on Friday, October 22, 2010.

Docket Numbers: RP10-1413-001.

Applicants: TransColorado Gas Transmission Company LLC.

Description: TransColorado Gas Transmission Company LLC submits tariff filing per 154.205(b): No Fuel Filing—Enterprise Amendment to 10-1-10 filing to be effective 11/1/2010.

Filed Date: 10/18/2010.

Accession Number: 20101018-5171.

Comment Date: 5 p.m. Eastern Time on Monday, November 01, 2010.

Docket Numbers: RP10-1162-001.

Applicants: Blue Lake Gas Storage Company.

Description: Blue Lake Gas Storage Company submits tariff filing per 154.203: RP10-1162 Compliance to be effective 11/1/2010.

Filed Date: 10/19/2010.

Accession Number: 20101019-5054.

Comment Date: 5 p.m. Eastern Time on Monday, November 01, 2010.

Docket Numbers: RP10-1221-002.

Applicants: CenterPoint Energy Gas Transmission Company.

Description: CenterPoint Energy Gas Transmission Company submits tariff filing per 154.203: NAESB Version 1.9 Sheet 785 to be effective 11/1/2010.

Filed Date: 10/19/2010.

Accession Number: 20101019-5088.

Comment Date: 5 p.m. Eastern Time on Friday, October 22, 2010.

Docket Numbers: RP11-16-002.

Applicants: Gulf South Pipeline Company, LP.

Description: Gulf South Pipeline Company, LP submits tariff filing per 154.205(b): Refile Revised Devon Amendment to be effective 10/1/2010.

Filed Date: 10/19/2010.

Accession Number: 20101019-5109.

Comment Date: 5 p.m. Eastern Time on Monday, November 01, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26851 Filed 10-22-10; 8:45 am]

BILLING CODE 6717-01-P